INTERNATIONAL TRADE COMMISSION

[Investigation No. 337-TA-1335]

Certain Integrated Circuits, Mobile Devices Containing the Same, and Components Thereof; Notice of Commission Decision Not To Review an Initial Determination Terminating the Investigation in its Entirety Based on Settlement; Termination of the Investigation

AGENCY: U.S. International Trade Commission.

ACTION: Notice.

SUMMARY: Notice is hereby given that the U.S. International Trade Commission has determined not to review an initial determination (“ID”) (Order No. 84) of the presiding Administrative Law Judge (“ALJ”) terminating the above-captioned investigation in its entirety based on settlement. The investigation is terminated.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On October 19, 2022, the Commission instituted this investigation under section 337 of the Tariff Act of 1930, as amended, 19 U.S.C. 1337 (“section 337”), based on a complaint filed by Daedalus Prime LLC (“Daedalus”) of Bronxville, New York. See 87 FR 63528-29 (Oct. 19, 2022). The complaint alleges a violation of section 337 based upon the importation into the United States, the sale for importation, and the sale within the United States after importation of certain integrated circuits, mobile devices containing the same, and components thereof by reason of infringement of certain claims of U.S. Patent Nos. 8,775,833 (“the '833 patent”); 8,898,494 (“the '494 patent”); 10,049,080 (“the '080 patent”); and 10,705,588 (“the '588 patent”). See id. The notice of investigation names the following respondents: Samsung Electronics Co., Ltd. of Suwon-si, Republic of Korea and Samsung Electronics America, Inc. of Ridgefield Park, New Jersey (collectively, “Samsung”) and Qualcomm Inc. (“Qualcomm”) of San Diego, California. See id. The Office of Unfair Import Investigations (“OUII”) is also a party to the investigation. See id.

On July 19, 2023, the Commission terminated the investigation as to Samsung based on settlement. See Order No. 39 (June 21, 2023), unreviewed by Comm'n Notice (July 19, 2023).

The Commission also terminated the investigation as to claims 6-19 of the '588 patent and all asserted claims of the '494, '833, and '080 patents, based on the withdrawal of the allegations in the complaint as to those claims. See Order No. 31 (May 18, 2023), unreviewed by Comm'n Notice (June 12, 2023); Order No. 32 (May 18, 2023), unreviewed by Comm'n Notice (June 12, 2023); Order No. 42 (June 30, 2023), unreviewed by Comm'n Notice (July 28, 2023); Order No. 49 (Aug. 1, 2023), unreviewed by Comm'n Notice (Aug. 28, 2023); Order No. 59 (Aug. 14, 2023), unreviewed by Comm'n Notice (Sept. 11, 2023).

On February 29, 2024, complainant Daedalus and respondent Qualcomm (collectively, “the Private Parties”) filed a joint motion to terminate the investigation in its entirety based on settlement. On March 11, 2024, OUII filed a response supporting the joint motion to terminate.

On March 12, 2024, the ALJ issued the subject ID (Order No. 84) granting the joint motion to terminate the investigation based on settlement. Pursuant to Commission Rule 210.21(b) (19 CFR 210.21(b)), the ID notes that the Private Parties included public and confidential versions of the settlement agreement between them. See ID at 3. The ID also notes that “the Private Parties represent that there are no other agreements, written or oral, express or implied, between them concerning the subject matter of this Investigation.” Id. The ID further notes that “in the absence of extraordinary circumstances, termination of an investigation will be readily granted to a complainant during the prehearing stage of an investigation.” Id. at 2.

No petition for review of the subject ID was filed. The Commission has determined not to review the subject ID. The investigation is terminated.

The Commission's vote for this determination took place on April 11, 2024.

The authority for the Commission's determination is contained in section 337 of the Tariff Act of 1930, as amended (19 U.S.C. 1337), and in part 210 of the Commission's Rules of Practice and Procedure (19 CFR part 210).

By order of the Commission.
Issued: April 11, 2024.
Lisa Barton,
Secretary to the Commission.

[FR Doc. 2024-08025 Filed 4-15-24; 8:45 am]

BILLING CODE 7020-02-P